DEPARTMENT OF AGRICULTURE

Rural Business Cooperative Service

Rural Housing Service

Rural Utilities Service

7 CFR Part 1930

[Docket No. RUS-25-Agency-0167]

RIN 0572-AC71

Removal of Obsolete Regulation

AGENCY: Rural Housing Service (RHS), Rural Business-Cooperative Service (RBCS), Rural Utilities Service (RUS), Department of Agriculture.

ACTION: Final rule.

SUMMARY: Rural Development (RD), a mission area within the Department of Agriculture consisting of RHS, RBCS, and RUS, is in the process of reviewing all regulations within its purview to reduce regulatory burdens and costs. Pursuant to this review, RD has identified the provisions in 7 CFR part 1930 as obsolete, unnecessary, and outdated due to lack of substantive material. RD is removing these provisions to streamline and clarify the dictates of title 7.

DATES: Effective Date: This rule is effective August 18, 2025.

FOR FURTHER INFORMATION CONTACT: Lauren Cusick, Division Director, Regulations Management Division, lauren.cusick@usda.gov, 202-720-1414.

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. RD has undertaken such a review and is accordingly rescinding 7 CFR 1930.

Regulatory Certifications

Executive Orders

This document does not meet the criteria for a significant regulatory action as specified by Executive Order (E.O.) 12866. This action also has no federalism or tribal implications and will not impose substantial unreimbursed compliance costs on States, local governments, or Indian tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

The regulations removed are: General, 7 CFR part 1930.

Part 1930 of title 7 is already blank. RD is therefore amending this part to clarify these regulations no longer exist.

List of Subjects in 7 CFR Part 1930

Fair housing, Grant programs-housing and community development, Loan programs-housing and community development, Low and moderate income housing, Reporting and recordkeeping requirements, Rural areas.

PART 1930—[Removed and Reserved]

For the reasons stated in the preamble, under the authority of 5 U.S.C. 301 and 7 U.S.C. 1989 Rural Development removes 7 CFR part 1930.

Todd Lindsey,
Deputy Under Secretary, Rural Development, U.S. Department of Agriculture.

[FR Doc. 2025-15642 Filed 8-15-25; 8:45 am]

BILLING CODE 3410-XY-P